ENVIRONMENTAL PROTECTION AGENCY

[FRL-11970-01-R8]

Clean Air Act Operating Permit Program; Order on Petition for Objection to State Operating Permit for DCP Operating Company, LP: Platteville Natural Gas Processing Plant

AGENCY: Environmental Protection Agency (EPA).

ACTION: Notice of final order on petition.

SUMMARY: The Environmental Protection Agency (EPA) Administrator signed an order dated April 2, 2024, granting a petition dated September 19, 2023, from the Center for Biological Diversity. The petition requested that the EPA object to the Clean Air Act (CAA) operating permits issued by the Colorado Department of Public Health and Environment (CDPHE) to DCP Operating Company, LP for its Platteville Natural Gas Processing Plant, located in Weld County, Colorado.

FOR FURTHER INFORMATION CONTACT: Donald Law, EPA Region 8, telephone number: (303) 312-7015, email address: law.donald@epa.gov. The final order and petition are available electronically at: https://www.epa.gov/title-v-operating-permits/title-v-petition-database.

SUPPLEMENTARY INFORMATION: The EPA received a petition from the Center for Biological Diversity dated September 19, 2023, requesting that the EPA object to the issuance of operating permit no. 02OPWE252 issued by CDPHE to DCP Operating Company, LP in Weld County, Colorado. On April 2, 2024, the EPA Administrator issued an order granting in part and denying in part the petition. The order itself explains the basis for the EPA's decision.

Sections 307(b) and 505(b)(2) of the CAA provide that a petitioner may request judicial review of those portions of an order that deny issues in a petition. Any petition for review shall be filed in the United States Court of Appeals for the appropriate circuit no later than August 5, 2024.

KC Becker,
Regional Administrator, Region 8.

[FR Doc. 2024-12217 Filed 6-3-24; 8:45 am]

BILLING CODE 6560-50-P